DEPARTMENT OF HEALTH AND HUMAN SERVICES

Administration for Community Living

Agency Information Collection Activities; Proposed Collection; Public Comment Request; Proposed Extension With No Changes of a Currently Approved Collection; National Survey of Older Americans Act Participants

AGENCY: Administration for Community Living, HHS.

ACTION: Notice.

SUMMARY: The Administration for Community Living (ACL) is announcing an opportunity for the public to comment on the proposed collection of certain information by the agency. Under the Paperwork Reduction Act of 1995 (the PRA), Federal agencies are required to publish a notice in the Federal Register concerning each proposed collection of information, including each proposed extension of an existing collection of information, and to allow 60 days for public comment in response to the notice. This notice solicits comments on the information collection requirements relating to consumer assessment surveys that are used by ACL to measure program performance for programs funded under Title III of the Older Americans Act. This notice solicits comments on a proposed extension with no changes of a currently approved collection.

DATES: Submit written or electronic comments on the collection of information by May 12, 2017.

ADDRESSES: Submit electronic comments on the collection of information to: Heather.Menne@acl.hhs.gov. Submit written comments on the collection of information to: Heather Menne, U.S. Department of Health and Human Services: Administration for Community Living, Washington, DC 20201.

FOR FURTHER INFORMATION CONTACT: Heather Menne at 202-795-7733 or Heather.Menne@acl.hhs.gov.

SUPPLEMENTARY INFORMATION: Under the PRA (44 U.S.C. 3501-3520), Federal agencies must obtain approval from the Office of Management and Budget (OMB) for each collection of information they conduct or sponsor. “Collection of information” is defined in 44 U.S.C. 3502(3) and 5 CFR 1320.3(c) and includes agency requests or requirements that members of the public submit reports, keep records, or provide information to a third party. Section 3506(c)(2)(A) of the PRA (44 U.S.C. 3506(c)(2)(A)) requires Federal agencies to provide a 60-day notice in the Federal Register concerning each proposed collection of information, including each proposed extension or update of an existing collection of information, before submitting the collection to OMB for approval. To comply with this requirement, ACL is publishing notice of the proposed collection of information set forth in this document. With respect to the following collection of information, ACL invites comments on: (1) Whether the proposed collection of information is necessary for the proper performance of ACL's functions, including whether the information will have practical utility; (2) the accuracy of ACL's estimate of the burden of the proposed collection of information, including the validity of the methodology and assumptions used; (3) ways to enhance the quality, utility, and clarity of the information to be collected; and (4) ways to minimize the burden of the collection of information on respondents, including through the use of automated collection techniques, when appropriate, and other forms of information technology.

The National Survey of Older Americans Act (OAA) Participants information collection will include consumer assessment surveys for the Congregate and Home-delivered meal nutrition programs; Case Management, Homemaker, and Transportation Services; and the National Family Caregiver Support Program. This survey builds on earlier national pilot studies and surveys, as well as performance measurement tools developed by ACL grantees in the Performance Outcomes Measures Project (POMP). Changes identified as a result of these initiatives were incorporated into the last data collection package that was approved by OMB and are included in this proposed extension of a currently approved collection. This information will be used by ACL to track performance outcome measures; support budget requests; comply with the GPRA Modernization Act of 2010 (GPRAMA) reporting requirements; provide national benchmark information; and inform program development and management initiatives.

Descriptions of previous National Surveys of OAA Participants can be found under the section on OAA Performance Information on ACL's Web site at: https://aoa.acl.gov/Program_Results/OAA_Performance.aspx. Copies of the survey instruments and data from previous National Surveys of OAA Participants can be found and queried using the AGing Integrated Database (AGID) at: http://www.agid.acl.gov/. The proposed National Survey entitled National Survey of Older Americans Act Participants 2017 Draft may be found on the ACL Web site at: https://aoa.acl.gov/Program_Results/OAA_Performance.aspx.

ACL estimates the burden of this collection of information as follows:

Respondent/data collection activity | Number of respondents | Responses per respondent | Hours per response | Annual burden hours
Area Agency on Aging: Respondent selection process | 250 | 1 | 4.0 | 1,000
Service Recipients (i.e., Congregate and Home-delivered meal nutrition programs; Case Management, Homemaker, and Transportation Services) | 4,000 | 1 | .6667 | 2,666.80
National Family Caregiver Support Program Clients | 2,000 | 1 | .6667 | 1,333.40
Total | 6,250 | 1 | .80 (weighted mean) | 5,000

Daniel Berger,
Acting Administrator and Assistant Secretary for Aging.

[FR Doc. 2017-04843 Filed 3-10-17; 8:45 am]

BILLING CODE 4154-01-P